DEPARTMENT OF JUSTICE

Drug Enforcement Administration

[Docket No. DEA-392]

Importer of Controlled Substances Registration: Research Triangle Institute

ACTION: Notice of registration.

SUMMARY: Research Triangle Institute applied to be registered as an importer of certain basic classes of controlled substances. The Drug Enforcement Administration (DEA) grants Research Triangle Institute registration as an importer of those controlled substances.

SUPPLEMENTARY INFORMATION: By notice dated July 29, 2015, and published in the Federal Register on August 4, 2015, 80 FR 46330, Research Triangle Institute, Kenneth S. Rehder, Hermann Building East Institute Drive, Room 106, Research Triangle Park, North Carolina 27709-2194 applied to be registered as an importer of certain basic classes of controlled substances. No comments or objections were submitted for this notice.

The DEA has considered the factors in 21 U.S.C. 823, 952(a) and 958(a) and determined that the registration of Research Triangle Institute to import the basic classes of controlled substances is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 952(a) and 958(a), and in accordance with 21 CFR 1301.34, the above-named company is granted registration as an importer of the following basic classes of controlled substances:

Controlled substance | Schedule
AB-PINACA (N-(1-amino-3-methyl-1-oxobutan-2-yl)1-pentyl-1H-indazole-3-carboxamide) (7023) | I
AB-CHMINACA (N-(1-amino-3-methyl-1-oxobutan-2-yl)-1-(cyclohexylmethyl)-1H-indazole-3-carboxamide (7031) | I
AM-2201 (1-(5-Fluoropentyl)-3-(1-naphthoyl) indole) (7201) | I
AM-694 (1-(5-Fluoropentyl)-3-(2-iodobenzoyl) indole) (7694) | I
JWH-018 (also known as AM678) (1-Pentyl-3-(1-naphthoyl) indole) (7118) | I
JWH-073 (1-Butyl-3-(1-naphthoyl)indole) (7173) | I
JWH-200 (1-[2-(4-Morpholinyl)ethyl]-3-(1-naphthoyl)indole) (7200) | I
JWH-250 (1-Pentyl-3-(2-methoxyphenylacetyl) indole) (6250) | I
JWH-019 (1-Hexyl-3-(1-naphthoyl)indole) (7019) | I
JWH-081 (1-Pentyl-3-(1-(4-methoxynaphthoyl) indole) (7081) | I
JWH-122 (1-Pentyl-3-(4-methyl-1-naphthoyl) indole) (7122) | I
JWH-203 (1-Pentyl-3-(2-chlorophenylacetyl) indole) (7203) | I
JWH-398 (1-Pentyl-3-(4-chloro-1-naphthoyl) indole (7398) | I
THJ-2201 [1-(5-fluoropentyl)-1H-indazol-3-yl](naphthalen-1-yl)methanone (7024) | I
1-(1-Phenylcyclohexyl)pyrrolidine (7458) | I
1-[1-(2-Thienyl)cyclohexyl]piperidine (7470) | I
1-[1-(2-Thienyl)cyclohexyl]pyrrolidine (7473) | I
1-Methyl-4-phenyl-4-propionoxypiperidine (9661) | I
1-(2-Phenylethyl)-4-phenyl-4-acetoxypiperidine (9663) | I
2,5-Dimethoxy-4-(n)-propylthiophenethylamine (2C-T-7) (7348) | I
2,5-Dimethoxy-4-ethylamphetamine (7399) | I
2,5-Dimethoxyamphetamine (7396) | I
2-(2,5-Dimethoxy-4-methylphenyl) ethanamine (2C-D) (7508) | I
2-(2,5-Dimethoxy-4-ethylphenyl) ethanamine (2C-E) (7509) | I
2-(2,5-Dimethoxyphenyl) ethanamine (2C-H) (7517) | I
2-(2,5-Dimethoxy-4-nitro-phenyl) ethanamine (2C-N) (7521) | I
2-(2,5-Dimethoxy-4-(n)-propylphenyl) ethanamine (2C-P) (7524) | I
2-(4-Isopropylthio)-2,5-dimethoxyphenyl) ethanamine (2C-T-4) (7532) | I
2-(4-bromo-2,5-dimethoxyphenyl)-N-(2-methoxybenzyl) ethanamine (25B-NBOMe) (7536) | I
2,5-Dimethoxy-4-(n)-propylthiophenethylamine (2C-T-7) (7348) | I
2-(4-Ethylthio-2,5-dimethoxyphenyl) ethanamine (2C-T-2) (7385) | I
2-(4-Iodo-2,5-dimethoxyphenyl) ethanamine (2C-I) (7518) | I
2-(4-Chloro-2,5-dimethoxyphenyl) ethanamine (2C-C) (7519) | I
3,4,5-Trimethoxyamphetamine (7390) | I
3,4-Methylenedioxyamphetamine (7400) | I
3,4-Methylenedioxy-N-ethylamphetamine (7404) | I
3,4-Methylenedioxymethamphetamine (7405) | I
3-Methylfentanyl (9813) | I
3-Methylthiofentanyl (9833) | I
4-Bromo-2,5-dimethoxyamphetamine (7391) | I
4-Bromo-2,5-dimethoxyphenethylamine (7392) | I
4-Methyl-2,5-dimethoxyamphetamine (7395) | I
4-Methylaminorex (cis isomer) (1590) | I
4-Methoxyamphetamine (7411) | I
5-Methoxy-3,4-methylenedioxyamphetamine (7401) | I
5-Methoxy-N,N-dimethyltryptamine (7431) | I
5-Methoxy-N,N-diisopropyltryptamine (7439) | I
Acetorphine (9319) | I
Acetyl-alpha-methylfentanyl (9815) | I
Acetyldihydrocodeine (9051) | I
Acetylmethadol (9601) | I
Allylprodine (9602) | I
Alpha-ethyltryptamine (7249) | I
Alpha-methylfentanyl (9814) | I
Alpha-methylthiofentanyl (9832) | I
Alpha-methyltryptamine (7432) | I
Alphacetylmethadol except levo-alphacetylmethadol (9603) | I
Alphameprodine (9604) | I
Alphamethadol (9605) | I
Aminorex (1585) | I
Benzethidine (9606) | I
Benzylmorphine (9052) | I
Beta-hydroxy-3-methylfentanyl (9831) | I
Beta-hydroxyfentanyl (9830) | I
Betacetylmethadol (9607) | I
Betameprodine (9608) | I
Betamethadol (9609) | I
Betaprodine (9611) | I
Bufotenine (7433) | I
CP-47,497 (5-(1,1-Dimethylheptyl)-2-[(1R,3S)-3-hydroxycyclohexyl-phenol) (7297) | I
CP-47,497 C8 Homologue (5-(1,1-Dimethyloctyl)-2-[(1R,3S)-3-hydroxycyclohexyl-phenol) (7298) | I
Cathinone (1235) | I
Clonitazene (9612) | I
Codeine methylbromide (9070) | I
Codeine-N-oxide (9053) | I
Cyprenorphine (9054) | I
Desomorphine (9055) | I
Dextromoramide (9613) | I
Diampromide (9615) | I
Diethylthiambutene (9616) | I
Diethyltryptamine (7434) | I
Difenoxin (9168) | I
Dihydromorphine (9145) | I
Dimenoxadol (9617) | I
Dimepheptanol (9618) | I
Dimethylthiambutene (9619) | I
Dimethyltryptamine (7435) | I
Dioxaphetyl butyrate (9621) | I
Dipipanone (9622) | I
Drotebanol (9335) | I
Ethylmethylthiambutene (9623) | I
Etonitazene (9624) | I
Etorphine (except HCl) (9056) | I
Etoxeridine (9625) | I
Fenethylline (1503) | I
Furethidine (9626) | I
Gamma Hydroxybutyric Acid (2010) | I
Heroin (9200) | I
Hydromorphinol (9301) | I
Hydroxypethidine (9627) | I
Ibogaine (7260) | I
Ketobemidone (9628) | I
Levomoramide (9629) | I
Levophenacylmorphan (9631) | I
Lysergic acid diethylamide (7315) | I
MDPV (3,4-Methylenedioxypyrovalerone) (7535) | I
Marihuana (7360) | I
Mecloqualone (2572) | I
Mephedrone (4-Methyl-N-methylcathinone) (1248) | I
Mescaline (7381) | I
Methaqualone (2565) | I
Methcathinone (1237) | I
Methyldesorphine (9302) | I
Methyldihydromorphine (9304) | I
Methylone (3,4-Methylenedioxy-N-methylcathinone) (7540) | I
Morpheridine (9632) | I
Morphine methylbromide (9305) | I
Morphine methylsulfonate (9306) | I
Morphine-N-oxide (9307) | I
Myrophine (9308) | I
N,N-Dimethylamphetamine (1480) | I
N-Benzylpiperazine (7493) | I
N-Ethyl-3-piperidyl benzilate (7482) | I
N-Ethylamphetamine (1475) | I
N-Ethyl-1-phenylcyclohexylamine (7455) | I
N-Hydroxy-3,4-methylenedioxyamphetamine (7402) | I
Nicocodeine (9309) | I
Nicomorphine (9312) | I
N-Methyl-3-piperidyl benzilate (7484) | I
Noracymethadol (9633) | I
Norlevorphanol (9634) | I
Normethadone (9635) | I
Normorphine (9313) | I
Norpipanone (9636) | I
Para-Fluorofentanyl (9812) | I
Parahexyl (7374) | I
Peyote (7415) | I
Phenadoxone (9637) | I
Phenampromide (9638) | I
Phenomorphan (9647) | I
Phenoperidine (9641) | I
Pholcodine (9314) | I
Piritramide (9642) | I
Proheptazine (9643) | I
Properidine (9644) | I
Propiram (9649) | I
Psilocybin (7437) | I
Psilocyn (7438) | I
Racemoramide (9645) | I
SR-18 (Also known as RCS-8) (1-Cyclohexylethyl-3-(2-methoxyphenylacetyl) indole) (7008) | I
SR-19 (Also known as RCS-4) (1-Pentyl-3-[(4-methoxy)-benzoyl] indole (7104) | I
Tetrahydrocannabinols (7370) | I
Thebacon (9315) | I
Thiofentanyl (9835) | I
Tilidine (9750) | I
Trimeperidine (9646) | I
1-Phenylcyclohexylamine (7460) | II
1-Piperidinocyclohexanecarbonitrile (8603) | II
4-Anilino-N-phenethyl-4-piperidine (ANPP) (8333) | II
Alfentanil (9737) | II
Alphaprodine (9010) | II
Amobarbital (2125) | II
Amphetamine (1100) | II
Anileridine (9020) | II
Bezitramide (9800) | II
Carfentanil (9743) | II
Coca Leaves (9040) | II
Cocaine (9041) | II
Codeine (9050) | II
Dextropropoxyphene, bulk (non-dosage forms) (9273) | II
Dihydrocodeine (9120) | II
Dihydroetorphine (9334) | II
Diphenoxylate (9170) | II
Ecgonine (9180) | II
Ethylmorphine (9190) | II
Etorphine HCl (9059) | II
Fentanyl (9801) | II
Glutethimide (2550) | II
Hydrocodone (9193) | II
Hydromorphone (9150) | II
Isomethadone (9226) | II
Levo-alphacetylmethadol (9648) | II
Levomethorphan (9210) | II
Levorphanol (9220) | II
Lisdexamfetamine (1205) | II
Meperidine (9230) | II
Meperidine intermediate-A (9232) | II
Meperidine intermediate-B (9233) | II
Meperidine intermediate-C (9234) | II
Metazocine (9240) | II
Methadone (9250) | II
Methadone intermediate (9254) | II
Methamphetamine (1105) | II
Methylphenidate (1724) | II
Metopon (9260) | II
Moramide-intermediate (9802) | II
Morphine (9300) | II
Nabilone (7379) | II
Opium, raw (9600) | II
Opium extracts (9610) | II
Opium fluid extract (9620) | II
Opium tincture (9630) | II
Opium powdered (9639) | II
Opium poppy/Poppy Straw (9650) | II
Oripavine (9330) | II
Poppy Straw Concentrate (9670) | II
Opium, granulated (9640) | II
Oxycodone (9143) | II
Oxymorphone (9652) | II
Pentobarbital (2270) | II
Phenazocine (9715) | II
Phencyclidine (7471) | II
Phenmetrazine (1631) | II
Phenylacetone (8501) | II
Piminodine (9730) | II
Racemethorphan (9732) | II
Racemorphan (9733) | II
Remifentanil (9739) | II
Secobarbital (2315) | II
Sufentanil (9740) | II
Tapentadol (9780) | II
Thebaine (9333) | II

The company plans to import small quantities of the listed controlled substances for the National Institute on Drug Abuse (NIDA) for research activities.

The company plans to import analytical reference standards for distribution to its customers for research and analytical purposes. Placement of these drug codes onto the company's registration does not translate into automatic approval of subsequent permit applications to import controlled substances. Approval of permit applications will occur only when the registrant's business activity is consistent with what is authorized under 21 U.S.C. 952(a)(2). Authorization will not extend to the import of FDA approved or non-approved finished dosage forms for commercial sale.

Dated: April 11, 2016.
Louis J. Milione,
Deputy Assistant Administrator.

[FR Doc. 2016-08842 Filed 4-15-16; 8:45 am]

BILLING CODE 4410-09-P